DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one person currently included in OFAC's Specially Designated Nationals and Blocked Persons List (SDN List).

DATES: See Supplementary Information section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

On October 18, 2023, OFAC updated the entry on the SDN List for the following person, whose property and interests in property subject to U.S. jurisdiction continue to be blocked under the relevant sanctions authority listed below.

Individual

1. CAMARA, Sadio, Bamako, Mali; Malibougou, Kati, Koulikoro, Mali; DOB 22 Mar 1979; POB Kati, Koulikoro, Mali; nationality Mali; citizen Mali; alt. citizen France; Gender Male; Passport DA0004031 (Mali) expires 15 Oct 2015 (individual) [RUSSIA-EO14024] (Linked To: PRIVATE MILITARY COMPANY ‘WAGNER’).

—to—

CAMARA, Sadio, Bamako, Mali; Malibougou, Kati, Koulikoro, Mali; DOB 22 Mar 1979; POB Kati, Koulikoro, Mali; nationality Mali; citizen Mali; Gender Male; Passport DA0004031 (Mali) expires 15 Oct 2015 (individual) [RUSSIA-EO14024] (Linked To: PRIVATE MILITARY COMPANY ‘WAGNER’).

Designated pursuant to section 1(a)(vi) of Executive Order 14024 of April 15, 2021, “Blocking Property With Respect To Specified Harmful Foreign Activities of the Government of the Russian Federation,” 86 FR 20249, 3 CFR, 2021 Comp., p. 542 (Apr. 15, 2021) (E.O. 14024) for having materially assisted, sponsored, or provided financial, material, or technological support for, or goods or services to or in support of, Private Military Company `WAGNER' (Wagner) a person whose property and interests in property are blocked pursuant to E.O. 14024.

Dated: October 18, 2023.
Bradley T. Smith,
Director, Office of Foreign Assets Control, U.S. Department of the Treasury.

[FR Doc. 2023-23408 Filed 10-23-23; 8:45 am]

BILLING CODE 4810-AL-P